DEPARTMENT OF TRANSPORTATION

Federal Aviation Administration

14 CFR Part 39

[Docket No. FAA-2009-0486; Directorate Identifier 2009-NM-064-AD; Amendment 39-15919; AD 2009-11-09]

RIN 2120-AA64

Airworthiness Directives; Airbus Model A310 Airplanes and Airbus Model A300-600 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

An A300-600 operator reported a recent event which occurred during the take-off roll, where a SOGERMA co-pilot seat slid back uncommanded to the end position. The seat horizontal movement actuator was replaced on the affected co-pilot seat. At the following take-off roll the same event occurred, the co-pilot seat sliding back uncommanded again. * * *

An unwanted movement of pilot or co-pilot seat in the horizontal direction is considered as potentially unsafe, especially during the take-off phase when the speed of the aeroplane is greater than 100 knots and until landing gear retraction.

* * * * *

Uncommanded movement of the pilot and co-pilot seats during takeoff or landing could interfere with the operation of the airplane and, as a result, could cause consequent loss of control of the airplane. This AD requires actions that are intended to address the unsafe condition described in the MCAI.

DATES: This AD becomes effective June 12, 2009.

The Director of the Federal Register approved the incorporation by reference of certain publications listed in the AD as of June 12, 2009.

We must receive comments on this AD by June 29, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

The European Aviation Safety Agency, which is the aviation authority for the Technical Agent for the Member States of the European Community, has issued Airworthiness Directive 2009-0084, dated April 9, 2009 (referred to after this as “the MCAI”), to correct an unsafe condition for the specified products. The MCAI states:

An A300-600 operator reported a recent event which occurred during the take-off roll, where a SOGERMA co-pilot seat slid back uncommanded to the end position. The seat horizontal movement actuator was replaced on the affected co-pilot seat. At the following take-off roll the same event occurred, the co-pilot seat sliding back uncommanded again. Further to these events, the inspection carried out on the two removed actuators ARTUS Part Number (P/N) RT19H4FX, revealed that the clutch was broken inside the shaft, thus unlocking the seat horizontal movement.

An unwanted movement of pilot or co-pilot seat in the horizontal direction is considered as potentially unsafe, especially during the take-off phase when the speed of the aeroplane is greater than 100 knots and until landing gear retraction.

For the reasons described above and pending the development of a permanent solution, this AD requires the deactivation of the electrical powered SOGERMA pilot seats 2510112 series and co-pilot seats 2510113 series.

In addition, this AD provides two (optional) interim solutions in order to restore a partial seat electrical adjustment (vertical only) or a full seat electrical adjustment (vertical and horizontal) by accomplishment of intermediate actions.

Uncommanded movement of the pilot and co-pilot seats during takeoff or landing could interfere with the operation of the airplane and, as a result, could cause consequent loss of control of the airplane. You may obtain further information by examining the MCAI in the AD docket.

Relevant Service Information

Airbus has issued All Operators Telex (AOT) A310-25A2203, Revision 02, dated March 2, 2009; and AOT A300-25A6215, Revision 02, dated March 2, 2009. EADS SOGERMA has issued Alert Service Bulletin A2510112-25-764, Revision 1, dated February 17, 2009; and Inspection Service Bulletin 2510112-25-807, dated February 20, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

An unsafe condition exists that requires the immediate adoption of this AD. The FAA has found that the risk to the flying public justifies waiving notice and comment prior to adoption of this rule because an uncommanded movement of the pilot and co-pilot seats during takeoff or landing could cause consequent loss of control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0486; Directorate Identifier 2009-NM-064-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-11-09 Airbus: Amendment 39-15919. Docket No. FAA-2009-0486; Directorate Identifier 2009-NM-064-AD.

Effective Date

(a) This airworthiness directive (AD) becomes effective June 12, 2009.

Affected ADs

(b) None.

Applicability

(c) This AD applies to Airbus Model A310-203, A310-204, A310-221, A310-222, A310-304, A310-322, A310-324, and A310-325 airplanes; and Airbus Model A300 B4-601, A300 B4-603, A300 B4-605R, A300 B4-620, A300 B4-622, A300 B4-622R, A300 C4-605R Variant F, A300 F4-605R and A300 F4-622R airplanes; certificated in any category; all serial numbers having SOGERMA 2510112 series pilot electrical seats or SOGERMA 2510113 series co-pilot electrical seats installed.

Subject

(d) Air Transport Association (ATA) of America Code 25: Equipment/Furnishings.

Reason

(e) The mandatory continued airworthiness information (MCAI) states:

An A300-600 operator reported a recent event which occurred during the take-off roll, where a SOGERMA co-pilot seat slid back uncommanded to the end position. The seat horizontal movement actuator was replaced on the affected co-pilot seat. At the following take-off roll the same event occurred, the co-pilot seat sliding back uncommanded again. Further to these events, the inspection carried out on the two removed actuators ARTUS Part Number (P/N) RT19H4FX, revealed that the clutch was broken inside the shaft, thus unlocking the seat horizontal movement.

An unwanted movement of pilot or co-pilot seat in the horizontal direction is considered as potentially unsafe, especially during the take-off phase when the speed of the aeroplane is greater than 100 knots and until landing gear retraction.

For the reasons described above and pending the development of a permanent solution, this AD requires the deactivation of the electrical powered SOGERMA pilot seats 2510112 series and co-pilot seats 2510113 series.

In addition, this AD provides two (optional) interim solutions in order to restore a partial seat electrical adjustment (vertical only) or a full seat electrical adjustment (vertical and horizontal) by accomplishment of intermediate actions.

Uncommanded movement of the pilot and co-pilot seats during takeoff or landing could interfere with the operation of the airplane and, as a result, could cause consequent loss of control of the airplane.

Actions and Compliance

(f) Unless already done, do the following actions.

(1) Within 15 days after the effective date of this AD: Deactivate the electrical supply of SOGERMA 2510112 series pilot seats and SOGERMA 2510113 series co-pilot seats, in accordance with the instructions of Airbus All Operators Telex (AOT) A310-25A2203, Revision 02, dated March 2, 2009; or AOT A300-25A6215, Revision 02, dated March 2, 2009; as applicable.

(2) For optional intermediate action for restoration of the electrical adjustment of the vertical seat movement only: Deactivating the electrical powered horizontal movement of SOGERMA 2510112 series pilot seats or SOGERMA 2510113 series co-pilot seats, in accordance with the instructions of EADS SOGERMA Alert Service Bulletin A2510112-25-764, Revision 1, dated February 17, 2009, allows restoration of the vertical adjustment only.

(3) For optional intermediate action for restoration of the electrical adjustment of the vertical seat and horizontal seat movement: Inspecting the position of switch ‘S4' and the related shim of SOGERMA 2510112 series pilot seats or SOGERMA 2510113 series co-pilot seats, in accordance with EADS SOGERMA Inspection Service Bulletin 2510112-25-807, dated February 20, 2009, allows reactivation of both horizontal and vertical electrical movements, provided the measurement results of the inspection are within the acceptable value indicated in the service bulletin, and provided that the inspection is repeated thereafter at intervals not to exceed 2 months. If the measurement result of any inspection is not within the acceptable value indicated in the EADS SOGERMA Inspection Service Bulletin 2510112-25-807, dated February 20, 2009, the horizontal movement must be deactivated before further flight.

(4) At the applicable time specified in paragraph (f)(4)(i) or (f)(4)(ii) of this AD: Submit a report of the findings for the first inspection done in accordance with paragraph (f)(3) of this AD to Airbus SAS—EAW (Airworthiness Office), 1 Rond Point Maurice Bellonte, 31707 Blagnac Cedex, France. The report must include a detailed fleet inspection report, including measurement values, and pin and serial numbers for each seat.

(i) If the inspection was done on or after the effective date of this AD: Submit the report within 30 days after the inspection.

(ii) If the inspection was accomplished prior to the effective date of this AD: Submit the report within 30 days after the effective date of this AD.

(5) Modifications made prior to the effective date of this AD in accordance with EADS SOGERMA Alert Service Bulletin A2510112-25-764, dated December 19, 2008, are considered acceptable for compliance with the applicable action specified in this AD.

FAA AD Differences

Note 1: This AD differs from the MCAI and/or service information as follows: None.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0084, dated April 9, 2009; and the service information listed in Table 1 of this AD for related information.

Table 1—Related Service Information
Document | Revision level | Date
Airbus All Operators Telex A300-25A6215 | 02 | March 2, 2009.
Airbus All Operators Telex A310-25A2203 | 02 | March 2, 2009.
EADS SOGERMA Alert Service Bulletin A2510112-25-764 | 1 | February 17, 2009.
EADS SOGERMA Inspection Service Bulletin 2510112-25-807 | (¹) | February 20, 2009.
¹ Original.

Material Incorporated by Reference

(i) You must use Airbus All Operators Telex A310-25A2203, Revision 02, dated March 2, 2009; or Airbus All Operators Telex A300-25A6215, Revision 02, dated March 2, 2009; as applicable; to do the actions required by this AD, unless the AD specifies otherwise. If you do the optional actions specified by this AD, you must use EADS SOGERMA Inspection Service Bulletin 2510112-25-807, dated February 20, 2009; or EADS SOGERMA Alert Service Bulletin A2510112-25-764, Revision 1, dated February 17, 2009; as applicable; to perform those actions, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on May 15, 2009.
Ali Bahrami,
Manager, Transport Airplane Directorate, Aircraft Certification Service.

[FR Doc. E9-12322 Filed 5-27-09; 8:45 am]

BILLING CODE 4910-13-P